DEPARTMENT OF ENERGY

[FE Dockets No. PP-240]

Applications for Presidential Permit, Enron Canada Corp.

AGENCY: Office of Fossil Energy, DOE.

ACTION: Notice of application.

SUMMARY: Enron Canada Corp. (ECC) has applied for a Presidential permit to construct, operate, maintain, and connect a double-circuit 230,000-volt (230-kV) underground electric transmission facility across the U.S. border with Canada.

DATES: Comments, protests, or requests to intervene must be submitted on or before August 9, 2001.

ADDRESSES: Comments, protests, or requests to intervene should be addressed as follows: Office of Coal & Power Imports/Exports (FE-27), Office of Fossil Energy, U.S. Department of Energy, 1000 Independence Avenue, SW., Washington, DC 20585-0350.

FOR FURTHER INFORMATION CONTACT: Steven Mintz (Program Office) 202-586-9506 or Michael T. Skinker (Program Attorney) 202-586-2793.

SUPPLEMENTARY INFORMATION: The construction, operation, maintenance, and connection of facilities at the international border of the United States for the transmission of electric energy between the United States and a foreign country is prohibited in the absence of a Presidential permit issued pursuant to Executive Order (EO) 10485, as amended by EO 12038.

On April 23, 2001, ECC, an Alberta, Canada, power marketing corporation and wholly-owned subsidiary of Enron Corp. of Houston, Texas, filed an application with the Office of Fossil Energy (FE) of the Department of Energy (DOE) for a Presidential permit. ECC proposes to construct a double-circuit 230-kV, underground electric transmission line across the U.S.-Canadian border in St. Claire County, Michigan. The proposed power line would connect to a proposed new electric generating facility (the Moore Power Plant) located in Moore Township, Lambton County, Ontario, Canada, extend under the St. Clair River and connect to the St. Clair Power Plant located in St. Clair County, Michigan, and owned by Detroit Edison. The total length of the transmission line would be approximately 7,052 feet. The underground sections would be approximately 3,640 feet in Ontario and 1,150 feet in Michigan. The section beneath the St. Clair River would be approximately 2,000 feet.

ECC asserts that the Moore Power Plant (MPP) is being built to participate in the newly deregulated Ontario electricity market and will be connected to Hydro One's Lambton Substation. The proposed cross-border power line will be a radial line connecting the MPP only to Detroit Edison's system. Accordingly, ECC requests a determination that open access obligations will not be imposed in connection with this Presidential permit.

Since restructuring of the electric power industry began, resulting in the introduction of different types of competitive entities into the marketplace, DOE has consistently expressed its policy that cross-border trade in electric energy should be subject to the same principles of comparable open access and non-discrimination that apply to transmission in interstate commerce. DOE has stated that policy in export authorizations granted to entities requesting authority to export over international transmission facilities. Specifically, DOE expects transmitting utilities owning border facilities to provide access across the border in accordance with the principles of comparable open access and non-discrimination contained in the FPA and articulated in Federal Energy Regulatory Commission Order No. 888 (Promotion Wholesale Competition Through Open Access Non-Discriminatory Transmission Services by Public utilities; FERC Stats. & Regs. ¶ 31,036 (1996)), as amended. In furtherance of this policy, on July 27, 1999, (64 FR 40586) DOE initiated a proceeding in which it noticed its intention to condition existing and future Presidential permits, appropriate for third party transmission, on compliance with a requirement to provide non-discriminatory open access transmission service. That proceeding is not yet complete. However, in this docket DOE specifically requests comment on the appropriateness of or comment on whether the open access requirement should be applied to ECC's proposed power line.

Procedural Matters: Any person desiring to become a party to this proceeding or to be heard by filing comments or protests to this application should file a petition to intervene, comment or protest at the address provided above in accordance with §§ 385.211 or 385.214 of the FERC's Rules of Practice and Procedures (18 CFR 385.211, 385.214). Fifteen copies of each petition and protest should be filed with the DOE on or before the date listed above.

Additional copies of such petitions to intervene or protests also should be filed directly with: Eric Le Dain, Enron Canada Corp., 3500 Canterra Tower, 400-3rd Avenue SW., Calgary, Alberta T2P 4H2 and Debbie Chance, Enron Corp., 1400 Smith Street, Mail Stop EB2960E, Houston, TX 77002.

Before a Presidential permit may be issued or amended, the DOE must determine that the proposed action will not adversely impact on the reliability of the U.S. electric power supply system. In addition, DOE must consider the environmental impacts of the proposed actions pursuant to the National Environmental Policy Act of 1969. DOE also must obtain the concurrence of the Secretary of State and the Secretary of Defense before taking final action on a Presidential permit application.

Copies of these applications will be made available, upon request, for public inspection and copying at the address provided above. In addition, the application may be reviewed or downloaded from the Fossil Energy Home Page at: http://www.fe.doe.gov. Upon reaching the Fossil Energy Home page, select “Electricity” from the options menu, and then “Pending Proceedings.”

Issued in Washington, DC, on July 3, 2001.
Anthony J. Como,
Deputy Director, Electric Power Regulation, Office of Coal & Power Imports/Exports, Office of Coal & Power Systems, Office of Fossil Energy.

[FR Doc. 01-17175 Filed 7-9-01; 8:45 am]

BILLING CODE 6450-01-P